RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collection of information to determine (1) the practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

Under Section 9 of the Railroad Retirement Act (RRA), and Section 6 of the Railroad Unemployment Insurance Act (RUIA), railroad employers are required to submit reports of employee service and compensation to the RRB as needed for administering the RRA and RUIA. To pay benefits due on a deceased employee's earnings records or determine entitlement to, and amount of annuity applied for, it is necessary at times to obtain from railroad employers current (lag) service and compensation not yet reported to the RRB through the annual reporting process. The reporting requirements are specified in 20 CFR 209.6 and 209.7.

The RRB currently utilizes Form G-88A.1, Notice of Retirement and Verification of Date Last Worked, Form G-88A.2, Notice of Retirement and Request for Service Needed for Eligibility, and Form AA-12, Notice of Death and Compensation, to obtain the required lag service and related information from railroad employers. Form G-88A.1 is a computer-generated listing sent by the RRB to railroad employers and used for the specific purpose of verifying information previously provided to the RRB regarding the date last worked by an employee. If the information is correct, the employer need not reply. If the information is incorrect, the employer is asked to provide corrected information. Form G-88A.2 is used by the RRB to secure lag service and compensation information when it is needed to determine benefit eligibility. Form AA-12 obtains a report of lag service and compensation from the last railroad employer of a deceased employee. This report covers the lag period between the date of the latest record of employment processed by the RRB and the date an employee last worked, the date of death or the date the employee may have been entitled to benefits under the Social Security Act. The information is used by the RRB to determine benefits due on the deceased employee's earnings record.

In addition, 20 CFR 209.12(b) requires all railroad employers to furnish the RRB with the home addresses of all employees hired within the last year (new-hires). Form BA-6a, Form BA-6 Address Report, is used by the RRB to obtain home address information of employees from railroad employers who do not have the home address information computerized and who submit the information in a paper format. The form also serves as an instruction sheet to railroad employers who can submit the information electronically by magnetic tape cartridge, CD-ROM, PC diskette, secure Email, or via ERS.

Completion of the forms is mandatory. Multiple responses may be filed by respondent.

Previous Requests for Comments: The RRB has already published the initial 60-day notice (77 FR 51833 on August 27, 2012) required by 44 U.S.C. 3506(c)(2). That request elicited no comments.

Information Collection Request (ICR)

Title: Employer Reporting.

OMB Control Number: 3220-0005.

Form(s) submitted: AA-12, G-88A.1, G-88A.2, BA-6a, BA-6a (Internet), and BA-6a (Email).

Type of request: Revision of a currently approved collection.

Affected public: Private sector; Businesses or other for-profits.

Abstract: Under the Railroad Retirement Act and the Railroad Unemployment Insurance Act, railroad employers are required to report service and compensation for employees needed to determine eligibility to and the amounts of benefits paid.

Changes proposed: The RRB proposes no changes to Forms AA-12, G-88A.2 or BA-6a; minor editorial changes to the paper version of Form G-88A.1 and the implementation of an Internet equivalent version of Forms G-88A.1 and G-88A.2 that can be submitted through the RRB's Employer Reporting System (ERS).

The burden estimate for the ICR is as follows:

Form No. | Annual responses | Time (minutes) | Burden (hours)
AA-12 | 60 | 5 | 5
G-88A.1 | 100 | 5 | 8
G-88A.1 Internet | 260 | 4 | 17
G-88A.1 Internet (Class 1 railroads) | 144 | 16 | 38
G-88A.2 | 100 | 5 | 8
G-88A.2 (Internet) | 1,200 | 2.5 | 50
BA-6a Electronic Equivalent | 14 | 15 | 4
BA-6a (Email) | 30 | 15 | 8
BA-6a (File Transfer Protocol) | 10 | 15 | 3
BA-6a Internet (RR initiated) | 250 | 17 | 71
BA-6a Internet (RRB initiated) | 250 | 12 | 50
BA-6a Paper (RR initiated) | 80 | 32 | 43
BA-6a Paper (RRB initiated) | 250 | 32 | 133
Total | 2,748 |  | 438

Additional Information or Comments: Copies of the forms and supporting documents can be obtained from Dana Hickman at (312) 751-4981 or Dana.Hickman@RRB.GOV.

Comments regarding the information collection should be addressed to Charles Mierzwa, Railroad Retirement Board, 844 North Rush Street, Chicago, Illinois 60611-2092 or Charles.Mierzwa@RRB.GOV and to the OMB Desk Officer for the RRB, Fax: 202-395-6974, Email address: OIRA_Submission@omb.eop.gov.

Charles Mierzwa,
Chief of Information Resources Management.

[FR Doc. 2013-01799 Filed 1-28-13; 8:45 am]

BILLING CODE 7905-01-P